NATIONAL CREDIT UNION ADMINISTRATION

Renewal of Agency Information Collection of a Previously Approved Collection; Request for Comments

AGENCY: National Credit Union Administration (NCUA).

ACTION: Notice of submission to the Office of Management and Budget.

SUMMARY: As required by the Paperwork Reduction Act, The National Credit Union Administration (NCUA) is submitting the information collection to the Office of Management and Budget (OMB) for renewal: Suspicious Activity Reports by Depository Institutions pursuant to the Security Program, Report of Suspected Crimes, Suspicious Transactions, Catastrophic Acts and Bank Secrecy Act Compliance. The information collection is currently authorized by OMB Control Number 3133-0094, which expires on May 31, 2023. This information collection allows NCUA to ensure compliance with regulatory and statutory requirements for adopting and requiring reports of suspicious transactions on a consolidated suspicious activity report (SARs) form.

DATES: Written comments should be received on or before May 30, 2023 to be assured consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submission may be obtained by contacting Mahala Vixamar at (703) 718-1155, emailing PRAComments@ncua.gov, or viewing the entire information collection request at www.reginfo.gov.

SUPPLEMENTARY INFORMATION:

OMB Number: 3133-0094.

Title: Suspicious Activity Report (SAR) by Depository Institutions.

Type of Review: Extension of a currently approved collection.

Abstract: NCUA is seeking renewal of the approval for the information collection conducted under the Bank Secrecy Act (BSA) (31 U.S.C. 5318(g)) requiring reports of suspicious transactions on a consolidated suspicious activity report (SARs) form. This information collection simplified the process through which banks inform their regulators and law enforcement about suspected criminal activity. Information about suspicious transactions conducted or attempted by, at, through, or otherwise involving credit unions are collected through FinCEN's BSA E-filing system by credit unions. A SAR is to be filed no later than 30 calendar days from the date of the initial detection of facts that may constitute a basis for filing a SAR. If no suspect can be identified, the period for filing a SAR is extended to 60 days. FinCEN and law enforcement agencies use the information on BSA-SARs and the supporting documentation retained by the banks for criminal investigation and prosecution purposes.

Affected Public: Federally Insured Credit Unions.

Respondents: Any NCUA-supervised institution wishing to obtain an exemption from the Suspicious Activity Report requirements.

Estimated No. of Respondents: 4,760.

Estimated No. of Responses per Respondent: 36.64.

Estimated Total Annual Responses: 174,406.

Estimated Burden Hours per Response: 1.

Estimated Total Annual Burden Hours: 174,406.

Reason for Change: The burden went down because the number of respondents decreased.

Request for Comments: NCUA published a notice requesting comments on renewal of this information under 88 FR 23691 and comments were not received. NCUA requests that comments on this collection to the location listed in the ADDRESSES section. The public is invited to submit comments concerning: (a) whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2023-08989 Filed 4-27-23; 8:45 am]

BILLING CODE 7535-01-P